GENERAL SERVICES ADMINISTRATION

[Notice-PBS-2014-02; Docket 2014-0002; Sequence 15]

Announcement of the Publication of GSA PBS-P100, Facilities Standards for the Public Buildings Service

AGENCY: Office of Design and Construction Office of Public Buildings Service, General Services Administration.

ACTION: Notice of Publication of the GSA PBS-P100, Facilities Standards for the Public Buildings Service.

SUMMARY: On March 12, 2014, the PBS-P100, Facilities Standards for the Public Buildings Service (P100), was issued. The Facilities Standards for the Public Buildings Service establishes design standards and criteria for new buildings, repairs and alterations, modernizations, lease construction buildings with government option to purchase, and work in historic structures for the Public Buildings Service (PBS) of the U.S. General Services Administration (GSA). This lastest update to the document contains both performance based standards and prescriptive requirements to be used in the programming, design, and documentation of GSA buildings. The PBS-P100 2014 version is available at http://www.gsa.gov/portal/category/106319 and at http://gsap100.wbdg.org.

DATES: April 9, 2014.

FOR FURTHER INFORMATION CONTACT: Mr. Martin Weiland, 202-219-0634, U.S. General Services Administration, 1800 F Street NW., Suite 5400, Washington, DC 20405, or via email pbsp100@gsa.gov.

Dated: April 3, 2014.
David Insinga,
Acting Assistant Commissioner, Office of Design and Construction, General Services Administration.

[FR Doc. 2014-07901 Filed 4-8-14; 8:45 am]

BILLING CODE 6820-23-P